DEPARTMENT OF AGRICULTURE

Forest Service

Notice of Intent To Publish for Public Comment Proposed Permanent Recreational Shooting Orders in the Boulder, Clear Creek, Canyon Lakes, and Sulphur Ranger Districts of the Arapaho and Roosevelt National Forests and Pawnee National Grassland

AGENCY: Forest Service, Agriculture (USDA).

ACTION: Notice.

SUMMARY: The Forest Service (Forest Service or Agency), United States Department of Agriculture, is giving notice of its intent to publish for public comment a proposed permanent order prohibiting recreational shooting on approximately 94,900 acres of National Forest System lands in the Canyon Lakes, Sulphur, and Clear Creek Ranger Districts of the Arapaho and Roosevelt National Forests and Pawnee National Grassland, and a proposed permanent order prohibiting recreational shooting on approximately 46,195 acres of National Forest System lands in the Clear Creek and Boulder Ranger Districts of the Arapaho and Roosevelt National Forests and Pawnee National Grassland. At the end of the advance notice period, the Forest Service will seek public comments, as specified in this notice, on the proposed permanent recreational shooting orders.

DATES: Advance notice of the opportunity to provide public comment on the proposed permanent recreational shooting orders is being provided until May 5, 2023. Beginning on May 5, 2023, the Forest Service will accept comments on the proposed permanent recreational shooting orders for 60 days. The notice of opportunity for public comment will be posted on the Arapaho and Roosevelt National Forests and Pawnee National Grassland web page at www.fs.usda.gov/goto/arp/recshootingmgt.

ADDRESSES: The proposed permanent recreational shooting orders, maps, and justification for the proposed permanent orders are posted on the Forest Service's Regulations and Policies web page at www.fs.usda.gov/about-agency/regulations-policies.

FOR FURTHER INFORMATION CONTACT: Doug Leyva, Recreation, Engineering, Lands, and Minerals Staff Officer, 970-295- 6650 or douglas.leyva@usda.gov. Individuals who use telecommunications devices for the hearing-impaired may call the Federal Relay Service at 800-877-8339, 24 hours a day, every day of the year, including holidays.

SUPPLEMENTARY INFORMATION:

Advance Notice and Public Comment Procedures

Section 4103 of the John D. Dingell, Jr. Conservation, Management, and Recreation Act of 2019 (Pub. L. 116-9, Title IV (Sportsmen's Access and Related Matters)), hereinafter “the Dingell Act,” requires the Forest Service to provide advance notice and opportunity for public comment before temporarily or permanently closing any National Forest System (NFS) lands to hunting, fishing, or recreational shooting. Section 4103 of the Dingell Act applies to the proposed permanent order prohibiting recreational shooting in the northern Canyon Lakes, Sulphur, and southern Clear Creek Ranger Districts of the Arapaho and Roosevelt National Forests and Pawnee National Grassland, and to the proposed permanent order prohibiting recreational shooting in the northern Clear Creek and southern Boulder Ranger Districts of the Arapaho and Roosevelt National Forests and Pawnee National Grassland. The public notice and comment process in section 4103(b)(2) of the Dingell Act requires the Forest Service to publish a notice of intent in the Federal Register of the proposed permanent orders in advance of the public comment period for the proposed permanent orders. This notice meets the requirement to publish a notice of intent in the Federal Register in advance of the public comment period.

Following the notice of intent, section 4103(b)(2) of the Dingell Act requires an opportunity for public comment on proposed temporary or permanent hunting, fishing, or recreational shooting orders. Because the proposed orders would permanently prohibit recreational shooting in the southern Boulder, northern Canyon Lakes, Sulphur, and Clear Creek Ranger Districts of the Arapaho and Roosevelt National Forests and Pawnee National Grassland, the public comment period must be at least 60 days. Beginning on May 5, 2023, the Forest Service will accept public comments on the proposed permanent orders for 60 days. The notice of opportunity for public comment will be posted on the Arapaho and Roosevelt National Forests and Pawnee National Grassland's web page at www.fs.usda.gov/goto/arp/recshootingmgt.

Section 4103(b)(2) of the Dingell Act requires the Forest Service to respond to public comments received on the proposed permanent orders before issuing final permanent orders, including an explanation of how any significant issues raised by the comments were resolved and, if applicable, how resolution of those issues affected the proposed permanent orders or the justification for the proposed permanent orders. The final permanent orders, maps, justification for the final permanent orders, and response to comments on the proposed permanent orders will be posted on the Arapaho and Roosevelt National Forests and Pawnee National Grassland's web page at www.fs.usda.gov/goto/arp/recshootingmgt.

Background and Need

The proposed permanent orders would implement applicable land management plan direction in the Arapaho and Roosevelt National Forests and Pawnee National Grassland's 2019 Land and Resource Management Plan amendment (Plan Amendment). Shooting sports are long-standing and appropriate uses of NFS lands. The Plan Amendment direction includes a management goal of providing for recreational shooting opportunities across the Arapaho and Roosevelt National Forests in a manner that addresses public health and safety concerns. The Plan Amendment also identifies NFS lands unsuitable for recreational shooting. Consistent with the Plan Amendment, the proposed permanent orders would prohibit recreational shooting, defined as discharging a firearm, air rifle or gas gun, on 94,900 acres of NFS lands designated as unsuitable for recreational shooting in southern Clear Creek, Jefferson, Park, northern Larimer, and Grand Counties, Colorado, which include the northern Canyon Lakes, Sulphur, and southern Clear Creek Ranger Districts of the Arapaho and Roosevelt National Forests and Pawnee National Grassland, and on 46,195 acres of NFS lands designated as unsuitable for recreational shooting in northern Clear Creek and Gilpin Counties, Colorado, which include the southern Boulder and northern Clear Creek Ranger Districts of the Arapaho and Roosevelt National Forests and Pawnee National Grassland.

Implementation of the proposed permanent orders is consistent with the framework in the decision notice for the Plan Amendment for phasing out recreational shooting as developed target ranges are constructed and opened for public use in the Arapaho and Roosevelt National Forests and Pawnee National Grassland. Final permanent recreational shooting orders will be issued after the notice and comment process under the Dingell Act is complete and developed target ranges in the Arapaho and Roosevelt National Forests and Pawnee National Grassland are constructed and open for public use.

The proposed permanent orders, maps, and justification for the proposed permanent orders are posted on the Forest Service's Regulations and Policies web page at www.fs.usda.gov/about-agency/regulations-policies.

Dated: April 17, 2023.
Jacqueline Emanuel,
Associate Deputy Chief, National Forest System.

[FR Doc. 2023-08763 Filed 4-27-23; 8:45 am]

BILLING CODE 3411-15-P